DEPARTMENT OF TRANSPORTATION

Federal Aviation Administration

Notice of Intent To Rule on Application 04-03-C-00-HGR To Impose and Use the Revenue From a Passenger Facility Charge (PFC) at Hagerstown Regional Airport—Richard A. Henson Field, Hagerstown, MD

AGENCY: Federal Aviation Administration (FAA), DOT.

ACTION: Notice of intent to rule on application.

SUMMARY: The FAA proposes to rule and invites public comment on the application to impose and use the revenue from a PFC at Hagerstown Regional Airport—Richard A. Henson Field under the provisions of the 49 U.S.C. 40117 and part 158 of the Federal Aviation Regulations (14 CFR part 158).

DATES: Comments must be received on or before December 5, 2003.

ADDRESSES: Comments on this application may be mailed or delivered in triplicate to the FAA at the following address: FAA, Washington Airport District Office, Attn: Art Winder, 23723 Air Freight Ln., Suite 210, Dulles, VA 20166.

In addition, one copy of any comments submitted to the FAA must be mailed or delivered to Carolyn Motz, Airport Manager of the Board of County Commissioners of Washington County, Maryland at the following address: 18434 Showalter Road, Hagerstown, Maryland 21742-1347.

Air carriers and foreign air carriers may submit copies of written comments previously provided to the Board of County Commissioners of Washington County, Maryland under § 158.23 of part 158.

FOR FURTHER INFORMATION CONTACT: Arthur Winder, Project Manager, Washington Airports District Office at the above address or call (703) 661-1363. The application may be reviewed in person at this same location.

SUPPLEMENTARY INFORMATION: The FAA proposes to rule and invites public comment on the application to impose and use the revenue from a PFC at Hagerstown Regional Airport—Richard A. Henson Field Airport under the provisions of the 49 U.S.C. 40117 and part 158 of the Federal Aviation Regulations (14 CFR part 158). On October 23, 2003, the FAA determined that the application to impose and use the revenue from a PFC submitted by Board of County Commissioners of Washington County was substantially complete within the requirements of § 158.25 of part 158. The FAA will approve or disapprove the application, in whole or in part, no later than January 31, 2004.

The following is a brief overview of the application.

Proposed charge effective date: December 1, 2003.

Proposed charge expiration date: December 1, 2007.

Level of the proposed PFC: $4.50.

Brief description of proposed project(s): Terminal Building Modifications Class or classes of air carriers which the public agency has requested not be required to collect PFCs: Air Charter Operators and the Nonscheduled/On-Demand Air Carriers filing FAA form 1800-31.

Any person may inspect the application in person at the FAA office listed above under FOR FURTHER INFORMATION CONTACT and at the FAA regional Airports office located at: Federal Aviation Administration, Airports Division, AEA-610, 1 Aviation Plaza, Jamaica, New York 11434.

In addition, any person may, upon request, inspect the application, notice and other documents germane to the application in person at the Board of County Commissioners of Washington County, Maryland.

Issued in Jamaica, New York, on October, 2003.
Eleanor Schifflin,
Manager, PFC Program, Eastern Region.

[FR Doc. 03-27754 Filed 11-4-03; 8:45 am]

BILLING CODE 4910-13-M